DEPARTMENT OF AGRICULTURE

Agricultural Marketing Service

7 CFR Part 1218

[Document No. AMS-SC-21-0030]

Blueberry Promotion, Research, and Information Order; Continuance Referendum

AGENCY: Agricultural Marketing Service.

ACTION: Notification of referendum.

SUMMARY: This document directs that a referendum be conducted among eligible producers and importers of highbush blueberries to determine whether they favor continuance of the Agricultural Marketing Service's regulations regarding a national highbush blueberry research and promotion program.

DATES: This referendum will be conducted by express mail and electronic ballot from October 8, 2021, through October 22, 2021. To be eligible to vote, blueberry producers and importers must have produced or imported 2,000 pounds or more of highbush blueberries during the representative period of January 1 through December 31, 2020, and must currently be producers or importers of highbush blueberries subject to assessment under the Blueberry Promotion, Research and Information Order (Order). Ballots delivered to AMS via express mail or email must show proof of delivery no later than 11:59 p.m. Eastern Daylight Time (EDT) on October 22, 2021.

ADDRESSES: Copies of the Blueberry Promotion, Research and Information Order (Order) may be obtained from: Referendum Agent, Promotion and Economics Division (PED), Specialty Crops Program (SCP), Agricultural Marketing Service (AMS), U.S. Department of Agriculture (USDA), 1400 Independence Avenue SW, Room 1406-S, Stop 0244, Washington, DC 20250-0244, telephone: (202) 720-9915; or contact Jeanette Palmer at (202) 720-5976 or via electronic mail: Jeanette.Palmer@usda.gov.

FOR FURTHER INFORMATION CONTACT: Jeanette Palmer, Marketing Specialist, PED, SCP, AMS, USDA, 1400 Independence Avenue SW, Room 1406-S, Stop 0244, Washington, DC 20250-0244; telephone: (202) 720-5976; or electronic mail: Jeanette.Palmer@usda.gov.

SUPPLEMENTARY INFORMATION: Pursuant to the Commodity Promotion, Research and Information Act of 1996 (7 U.S.C. 7411-7425) (Act), it is hereby directed that a referendum be conducted to ascertain whether continuance of the Order (7 CFR part 1218) is favored by eligible producers and importers of highbush blueberries. The Order is authorized under the Act.

The period for establishing voter eligibility for the referendum shall be the period from January 1, 2020, through December 31, 2020. Persons who produced or imported 2,000 pounds or more of highbush blueberries during the representative period, paid assessments during that period, and are currently highbush blueberry producers or importers subject to assessment under the Order are eligible to vote. Persons who received an exemption from assessments for the entire representative period are ineligible to vote. The U.S. Department of Agriculture will provide the option for electronic balloting. The referendum will be conducted by express mail and electronic ballot from October 8, 2021, through October 22, 2021. Further details will be provided in the ballot instructions.

Section 518 of the Act authorizes continuance referenda. Under § 1218.71(b) of the Order, the U.S. Department of Agriculture must conduct a referendum every 5 years to determine whether persons subject to assessment favor continuance of the Order. The last referendum was held in 2016. USDA would continue the Order if continuance is favored by a majority of the producers and importers voting in the referendum, who also represent a majority of the volume of blueberries represented in the referendum.

In accordance with the Paperwork Reduction Act of 1995 (44 U.S.C. chapter 35), the referendum ballot has been approved by the Office of Management and Budget (OMB) and assigned OMB No. 0581-0093. It has been estimated that there are approximately 1,547 producers and 271 importers who will be eligible to vote in the referendum. It will take an average of 15 minutes for each voter to read the voting instructions and complete the referendum ballot.

Referendum Order

Jeanette Palmer, Marketing Specialist, and Heather Pichelman, Director, Promotion Economics Division, SCP, AMS, USDA, Stop 0244, Room 1406-S, 1400 Independence Avenue SW, Washington, DC 20250-0244, are designated as the referendum agents to conduct this referendum. The referendum procedures at 7 CFR 1218.100 through 1218.107, which were issued pursuant to the Act, shall be used to conduct the referendum.

The referendum agent will express mail or email the ballots to be cast in the referendum and voting instructions to all known, eligible highbush blueberry producers and importers prior to the first day of the voting period. Persons who produced or imported 2,000 more pounds of highbush blueberries during the representative period and are currently highbush blueberry producer or importers subject to assessment under the Order are eligible to vote. Persons who received an exemption from assessments during the entire representative period are ineligible to vote. Any eligible producer or importer who does not receive a ballot should contact the referendum agent no later than three days before the end of the voting period. Ballots delivered via express mail or email must show proof of delivery by no later than 11:59 p.m. EDT on October 22, 2021, to be counted.

List of Subjects in 7 CFR Part 1218

Administrative practice and procedure, Advertising, Blueberry promotion, Consumer information, Marketing agreements, Reporting and recordkeeping requirements.

Authority: 7 U.S.C. 7411-7425; 7 U.S.C. 7401.

Erin Morris,
Associate Administrator.

[FR Doc. 2021-15160 Filed 7-15-21; 8:45 am]

BILLING CODE P